DEPARTMENT OF HOUSING AND URBAN DEVELOPMENT

[Docket No. FR-7071-N-28]

60-Day Notice of Proposed Information Collection: Multifamily Project Construction Contract, Building Loan Agreement, and Construction Change Request (Form HUD-92437); OMB Control No.: 2502-0011

AGENCY: Office of the Assistant Secretary for Housing- Federal Housing Commissioner, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: February 5, 2024.

ADDRESSES: Interested persons are invited to submit comments regarding this proposal. Written comments and recommendations for the proposed information collection can be submitted within 60 days of publication of this notice to www.reginfo.gov/public/do/PRAMain. Find this particular information collection by selecting, “Currently under 60-day Review—Open for Public Comments” or by using the search function. Interested persons are also invited to submit comments regarding this proposal by name and/or OMB Control Number and can be sent to: Colette Pollard, Reports Management Officer, REE, Department of Housing and Urban Development, 451 7th Street SW, Room 8210, Washington, DC 20410-5000 or email at PaperworkReductionActOffice@hud.gov.

FOR FURTHER INFORMATION CONTACT: Colette Pollard, Reports Management Officer, REE, Department of Housing and Urban Development, 451 7th Street SW, Washington, DC 20410; email; Colette.Pollard@hud.gov or telephone (202) 402-3400. This is not a toll-free number. HUD welcomes and is prepared to receive calls from individuals who are deaf or hard of hearing, as well as individuals with speech and communication disabilities. To learn more about how to make an accessible telephone call, please visit https://www.fcc.gov/consumers/guides/telecommunications-relay-service-trs. Copies of available documents submitted to OMB may be obtained from Ms. Pollard.

SUPPLEMENTARY INFORMATION: This notice informs the public that HUD is seeking approval from OMB for the information collection described in Section A.

A. Overview of Information Collection

Title of Information Collection: Request for Construction on Project Mortgages.

OMB Approval Number: 2502-0011.

Type of Request: Reinstatement, with change, of previously approved collection for which approval has expired.

Form Number: HUD-92437.

Description of the need for the information and proposed use:

The previous OMB collection reflects an accurate assessment of the numbers submitted under this collection, which included two forms used by OMAPO, formally Contract Administration, CA (HUD-92442-CA, HUD-92442-A-CA). In addition, the specific forms, HUD-92441, HUD-92442, and HUD-92442-A, have been deleted under this collection and placed under the Closing documents, OMB control number 2502-0598. The current numbers were based on the average of three fiscal years of initial endorsements. Furthermore, the numbers under this collection reflect a healthy housing industry since 2010 in which credit markets stabilized and interest rates were low and Multifamily housing occupancy was very strong. HUD plays a vital part in the housing industry and the increased numbers reflect that strong demand. This form HUD-92437 serves as the project's change order involving changes to contact work, contract price, or contract time. All on-site construction changes are submitted on this form. The contractor, architect, mortgagor, and mortgagee must approve the proposed changes before the request is submitted to HUD for approval. The form ensures that viable projects are developed.

Respondents: Individuals participating in HUD Multifamily mortgage insurance programs as principals of sponsors, mortgagors, and general contractors.

Estimated Number of Respondents: 1,174.

Estimated Number of Responses: 3,522.

Frequency of Response: 3.

Average Hours per Response: 2.

Total Estimated Burden: 7,044.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. 3507.

Jeffrey D. Little,
General Deputy Assistant Secretary, Office of Housing.

[FR Doc. 2023-26690 Filed 12-4-23; 8:45 am]

BILLING CODE 4210-67-P